DEPARTMENT OF AGRICULTURE

Forest Service

Wrangell-Petersburg Resource Advisory Committee

AGENCY: Forest Service, USDA.

ACTION: Notice of meetings.

SUMMARY: The Wrangell-Petersburg Resource Advisory Committee (RAC) has scheduled its next two regular meetings. The first meeting will be via teleconference and will take place Saturday, September 24, 2005 from 10 a.m. until 4 p.m. The second meeting will take place on Friday, October 21, 2005 from 8 a.m. until 5:30 p.m. (or until the conclusion of public testimony) and on Saturday, October 22, 2005 from 8 a.m. until 9 a.m. This meeting will take place in Wrangell, Alaska. The purpose of the September meeting is to review project funding proposals that are received by September 15 pursuant to Title II, Public Law 106-393, H.R. 2389, the Secure Rural Schools and Community Self-Determination Act of 2000, also called the “Payments to States” Act. This meeting will identify any additional information needed for the committee to fully consider the proposals. It is expected that election for a committee chairperson will also occur at this meeting. The purpose of the October meeting is to review and discuss in greater detail proposals received for funding, and potentially make funding recommendations for specific projects. Public testimony regarding the proposals will also be taken at the October meeting.

DATES: The first meeting is a teleconference to be held Saturday, September 24, 2005 from 10 a.m. until 4 p.m. The second meeting will be held Friday, October 21, from 8 a.m. until 5:30 p.m. and on Saturday, October 22, 2005, from 8 a.m. until 9 a.m.

ADDRESSES: The September meeting will be via teleconference. Interested parties may participant at either the Wrangell Ranger District office (525 Bennett Street, Wrangell, Alaska) or the Petersburg Ranger District office (12 North Nordic Drive, Petersburg, Alaska), or may contact the local offices for a toll free telephone number to access the meeting from any location. The October meeting will be held at the James and Elsie Nolan Center, 1096 Outer Drive, Wrangell, Alaska.

FOR FURTHER INFORMATION CONTACT: Patty Grantham, Petersburg District Ranger, P.O. Box 1328, Petersburg, AK 99833, phone (907) 772-3871, e-mail pagrantham@fs.fed.us, or Bill Messmer, Acting Wrangell District Ranger, P.O. Box 51, Wrangell, AK 99833, e-mail bmessmer@fs.fed.us. Toll-free conference calling is available for each of these meetings; please call or email for specific information. For further information on RAC history, operations, and the application process, a Web site is available at http://www.fs.fed.us/payments. Once in the Web site, follow the links to the Wrangell-Petersburg Resource Advisory Committee.

SUPPLEMENTARY INFORMATION: This meeting will focus on the review and discussion of proposals received by the RAC for funding under Title II of the Payments to States legislation (Pub. L. 106-393). New proposals (initial reading) may be discussed at these meetings. The committee may make recommendations for project funding at the October meeting. A field trip to review proposals proximate to the Wrangell, Alaska area may take place in conjunction with the October meeting. Both meetings are open to the public. Public input opportunity will be provided and individuals will have the opportunity to address the committee at that time.

Dated: August 22, 2005.
Forrest Cole,
Forest Supervisor.

[FR Doc. 05-17526 Filed 9-1-05; 8:45 am]

BILLING CODE 3410-11-M